DEPARTMENT OF ENERGY

Federal Energy Regulatory Commission

Combined Notice of Filings #1

Take notice that the Commission received the following electric rate filings:

Docket Numbers: ER10-2950-011.

Applicants: Spruance Genco, LLC.

Description: Supplement to August 29, 2017 Notice of Non-Material Change in Status by Spruance Genco, LLC.

Filed Date: 2/9/18.

Accession Number: 20180209-5238.

Comments Due: 5 p.m. ET 3/2/18.

Docket Numbers: ER13-823-005; ER13-33-004.

Applicants: Castleton Commodities Merchant Trading, L.P., Collegiate Clean Energy, LLC.

Description: Notice of Non-Material Change in Status of Castleton Commodities Merchant Trading, L.P., et al.

Filed Date: 2/9/18.

Accession Number: 20180209-5216.

Comments Due: 5 p.m. ET 3/2/18.

Docket Numbers: ER15-2255-002.

Applicants: Armenia Mountain Wind, LLC.

Description: Notice of Non-Material Change in Status of Armenia Mountain Wind, LLC.

Filed Date: 2/9/18.

Accession Number: 20180209-5239.

Comments Due: 5 p.m. ET 3/2/18.

Docket Numbers: ER15-2679-007.

Applicants: Latigo Wind Park, LLC.

Description: Compliance filing: Latigo Wind Park, LLC Change in Status to be effective 2/13/2018.

Filed Date: 2/12/18.

Accession Number: 20180212-5093.

Comments Due: 5 p.m. ET 3/5/18.

Docket Numbers: ER16-2541-004.

Applicants: Pioneer Wind Park I, LLC.

Description: Compliance filing: Pioneer Wind Park I, LLC Change in Status to be effective 2/13/2018.

Filed Date: 2/12/18.

Accession Number: 20180212-5094.

Comments Due: 5 p.m. ET 3/5/18.

Docket Numbers: ER18-841-000.

Applicants: ISO New England Inc.

Description: ISO New England Inc. submits Fourth Quarter 2017 Capital Budget Report.

Filed Date: 2/9/18.

Accession Number: 20180209-5214.

Comments Due: 5 p.m. ET 3/2/18.

Docket Numbers: ER18-842-000.

Applicants: Alabama Power Company.

Description: § 205(d) Rate Filing: Macon Parkway Solar Project LGIA Filing to be effective 1/29/2018.

Filed Date: 2/12/18.

Accession Number: 20180212-5208.

Comments Due: 5 p.m. ET 3/5/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 12, 2018.
Nathaniel J. Davis, Sr.,
Deputy Secretary.

[FR Doc. 2018-03379 Filed 2-16-18; 8:45 am]

BILLING CODE 6717-01-P